DEPARTMENT OF COMMERCE

International Trade Administration

[A-533-813]

Certain Preserved Mushrooms from India: Notice of Rescission in Part of Antidumping Duty Administrative Review

AGENCY: Import Administration, International Trade Administration, Department of Commerce.

ACTION: Notice of Partial Rescission of Antidumping Duty Administrative Review.

SUMMARY: In response to a timely request from the petitioners ¹, on March 30, 2000, the Department of Commerce published a notice of initiation of an administrative review of the antidumping duty order on certain preserved mushrooms from India with respect to Agro Dutch Foods, Ltd., Alpine Biotech, Ltd., Mandeep Mushrooms, Ltd., Hindustan Lever Limited (formerly Ponds India, Ltd.), Saptarishi Agro Industries, Ltd., Techtran Agro Industries, Ltd., Transchem, Ltd., Premier Mushroom Farms, Flex Foods, Ltd., Weikfield Agro Products, Ltd., Dinesh Agro Products, Ltd., and Himalya International, covering the period August 5, 1998, through January 31, 2000.

¹ The petitioners are the Coalition for Fair Preserved Mushroom Trade which includes the American Mushroom Institute and the following domestic companies: L.K. Bowman, Inc., Nottingham, PA; Modern Mushrooms Farms, Inc., Toughkernamon, PA; Monterrey Mushrooms, Inc., Watsonville, CA; Mount Laurel Canning Corp., Temple, PA; Mushrooms Canning Company, Kennett Square, PA; Southwood Farms, Hockessin, DE; Sunny Dell Foods, Inc., Oxford, PA; United Canning Corp., North Lima, OH.

See Initiation of Antidumping and Countervailing Duty Administrative Reviews, 65 FR 16875 (March 30, 2000). On June 22, 2000, the petitioners timely withdrew their request for review of the following companies: Alpine Biotech, Ltd., Mandeep Mushrooms, Ltd., Saptarishi Agro Industries, Ltd., Transchem, Ltd., Premier Mushroom Farms, Flex Foods, Ltd., and Dinesh Agro Products, Ltd.

In accordance with 19 CFR 351.213(d)(1), the Department of Commerce is now rescinding this review, in part, as to the companies named above because the petitioners have withdrawn their request for review and no other interested parties have requested a review.

EFFECTIVE DATE: July 18, 2000.

FOR FURTHER INFORMATION CONTACT: David J. Goldberger or Dinah McDougall, Import Administration, International Trade Administration, U.S. Department of Commerce, 14th Street and Constitution Avenue, NW., Washington, DC 20230; telephone: (202) 482-4136 or (202) 482-3773, respectively.

SUPPLEMENTARY INFORMATION:

Applicable Statute

Unless otherwise indicated, all citations to the Tariff Act of 1930, as amended (“the Act”), are references to the provisions effective January 1, 1995, the effective date of the amendments made to the Act by the Uruguay Round Agreements Act. In addition, unless otherwise indicated, all citations to the Department of Commerce's regulations are to 19 CFR Part 351 (1999).

Background

On February 14, 2000, the Department published in the Federal Register (65 FR 7348) a notice of “Opportunity To Request Administrative Review” of the antidumping duty order on certain preserved mushrooms from India for the period August 5, 1998, through January 31, 2000. On February 29, 2000, the petitioners requested an administrative review of the above-referenced antidumping duty order for the period August 5, 1998, through January 31, 2000, for the following companies: Agro Dutch Foods, Ltd., Alpine Biotech, Ltd., Mandeep Mushrooms, Ltd., Hindustan Lever Limited (formerly Ponds India, Ltd.), Saptarishi Agro Industries, Ltd., Techtran Agro Industries, Ltd., Transchem, Ltd., Premier Mushroom Farms, Flex Foods, Ltd., Weikfield Agro Products, Ltd., Dinesh Agro Products, Ltd., and Himalya International. On March 30, 2000, the Department published a notice of initiation of an administrative review of the antidumping duty order on certain preserved mushrooms from India with respect to these companies (65 FR 16875).

Recission in Part of Review

On June 22, 2000, the petitioners timely withdrew their request for review with respect to the following companies: Alpine Biotech, Ltd., Mandeep Mushrooms, Ltd., Saptarishi Agro Industries, Ltd., Transchem, Ltd., Premier Mushroom Farms, Flex Foods, Ltd., and Dinesh Agro Products, Ltd. Section 351.213(d)(1) of the Department's regulations stipulates that the Secretary will permit a party that requests a review to withdraw the request within 90 days after the date of publication of the notice of initiation of the requested review. In this case, the petitioners have withdrawn their request for review within the 90-day period. No other interested party requested a review with respect to the named companies and we have received no other submissions regarding petitioners' withdrawal of their request for review. Therefore, we are rescinding, in part, this review of the antidumping duty order on certain preserved mushrooms from India as to the companies name above.

This notice is published in accordance with section 751 of the Act and 19 CFR 351.213(d)(4).

Dated: July 11, 2000.
Richard W. Moreland,
Deputy Assistant Secretary for Import Administration.

[FR Doc. 00-18120 Filed 7-17-00; 8:45 am]

BILLING CODE 3510-DS-P